DEPARTMENT OF COMMERCE

International Trade Administration

[C-714-001, C-821-825]

Phosphate Fertilizers From the Kingdom of Morocco and the Russian Federation: Postponement of Preliminary Determinations in the Countervailing Duty Investigations

AGENCY: Enforcement and Compliance, International Trade Administration, Department of Commerce.

DATES: Applicable September 2, 2020.

FOR FURTHER INFORMATION CONTACT: Bob Palmer at (202) 482-9068 (the Kingdom of Morocco (Morocco)) or George Ayache at (202) 482-2623 (the Russian Federation (Russia)), AD/CVD Operations, Office VIII, Enforcement and Compliance, International Trade Administration, U.S. Department of Commerce, 1401 Constitution Avenue NW, Washington, DC 20230.

SUPPLEMENTARY INFORMATION:

Background

On July 16, 2020, the Department of Commerce (Commerce) initiated countervailing duty (CVD) investigations of imports of phosphate fertilizers from Morocco and Russia.¹ Currently, the preliminary determinations are due no later than September 21, 2020.²

¹ See Phosphate Fertilizers from the Kingdom of Morocco and the Russian Federation: Initiation of Countervailing Duty Investigations, 85 FR 44505 (July 23, 2020) (Initiation Notice).

² The current deadline for the preliminary determination falls on September 19, 2020, which is a Saturday. Commerce's practice dictates that where a deadline falls on a weekend or federal holiday, the appropriate deadline is the next business day, which is Monday, September 21, 2020. See Notice of Clarification: Application of “Next Business Day” Rule for Administrative Determination Deadlines Pursuant to the Tariff Act of 1930, As Amended, 70 FR 24533 (May 10, 2005).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner in these proceedings is the Mosaic Company.

On August 20, 2020, the petitioner submitted a timely request that Commerce postpone the preliminary CVD determinations.⁴ The petitioner stated that it requests postponement as “additional time is needed for {Commerce} to analyze fully the questionnaire responses, issue supplemental questionnaires as appropriate, and prepare an accurate preliminary determination.” ⁵

⁴ See Petitioner's Letters, “Phosphate Fertilizers from Morocco: Petitioner's Request for Postponement of the Preliminary Determination,” dated August 20, 2020; and “Phosphate Fertilizers from Russia: Petitioner's Request for Postponement of the Preliminary Determination,” dated August 20, 2020.

⁵ Id.

In accordance with 19 CFR 351.205(e), the petitioner has stated the reasons for requesting a postponement of the preliminary determination, and Commerce finds no compelling reason to deny the request. Therefore, in accordance with section 703(c)(1)(A) of the Act, Commerce is postponing the deadline for the preliminary determinations to no later than 130 days after the date on which these investigations were initiated, i.e., November 23, 2020. Pursuant to section 705(a)(1) of the Act and 19 CFR 351.210(b)(1), the deadline for the final determinations of these investigations will continue to be 75 days after the date of the preliminary determinations.

This notice is issued and published pursuant to section 703(c)(2) of the Act and 19 CFR 351.205(f)(1).

Dated: August 28, 2020.
Joseph A. Laroski Jr.,
Deputy Assistant Secretary for Policy and Negotiations.

[FR Doc. 2020-19410 Filed 9-1-20; 8:45 am]

BILLING CODE 3510-DS-P